DEPARTMENT OF COMMERCE

International Trade Administration

[A-520-803]

Polyethylene Terephthalate Film, Sheet and Strip From the United Arab Emirates: Notice of Correction to Partial Rescission of Antidumping Duty Administrative Review; 2016-2017

AGENCY: Enforcement and Compliance, International Trade Administration, Department of Commerce.

DATES: Applicable July 11, 2018.

FOR FURTHER INFORMATION CONTACT: Andrew Huston, Office VII, Antidumping and Countervailing Duty Operations, Enforcement and Compliance, International Trade Administration, U.S. Department of Commerce, 1401 Constitution Avenue NW, Washington, DC 20230; telephone: (202) 482-4261.

SUPPLEMENTARY INFORMATION: On June 18, 2018, the Department of Commerce (Commerce) published a notice to rescind the antidumping administrative review for Flex Middle East FZE (Flex) covering the period November 1, 2016 through October 31, 2017.¹ The Partial Rescission Notice contained an inadvertent error in the assessment section of the notice, specifically the Partial Rescission Notice did not cite the correct period for which Commerce will instruct U.S. Customs and Border Protection (CBP) to assess antidumping duties. The corrected assessment section appears below.

¹ See Polyethylene Terephthalate Film, Sheet and Strip from the United Arab Emirates: Partial Rescission of Antidumping Duty Administrative Review; 2016-2017, 83 FR 28196 (June 18, 2018) (Partial Rescission Notice).

Assessment

Commerce will instruct U.S. CBP to assess anti-dumping duties on all appropriate entries. Subject merchandise of Flex will be assessed antidumping duties at rates equal to the cash deposit of estimated antidumping duties required at the time of entry, or withdrawal from warehouse, for consumption, during the period November 1, 2016, through October 31, 2017, in accordance with 19 CFR 351.212(c)(1)(i). Commerce intends to issue assessment instructions to CBP 15 days after the date of publication of this notice.

This notice is issued and published in accordance with section 751(a)(1) and 777(i)(1) of the Tariff Act of 1930, as amended, and 19 CFR 351.213(d)(4).

Dated: June 29, 2018.
Scot Fullerton,
Director, Office VI, Antidumping and Countervailing Duty Operations.

[FR Doc. 2018-14609 Filed 7-10-18; 8:45 am]

BILLING CODE 3510-DS-P